ENVIRONMENTAL PROTECTION AGENCY

40 CFR Part 52

[Region II Docket No. NJ62-262, FRL-7535-4]

Approval and Promulgation of Implementation Plans; New Jersey; Revised Motor Vehicle Emissions Inventories for 1996, 2005, and 2007 and Motor Vehicle Emissions Budgets for 2005 and 2007 Using MOBILE6

Correction

In rule document 03-18853 beginning on page 43462 in the issue of Wednesday, July 23, 2003, make the following correction:

On page 43463, Table 1 is corrected as set forth below.

Table 1.—New Jersey's Revised Motor Vehicle Emissions Inventories
NAA area | 2005: VOC (tpd) | 2005: NOX (tpd) | 2007: VOC (tpd) | 2007: NOX (tpd)
Atlantic City | 14.63 | 22.07 | ⁽¹⁾ | ⁽¹⁾
Northern New Jersey | 156.37 | 237.17 | 134.00 | 186.93
Trenton | 50.48 | 77.72 | ⁽¹⁾ | ⁽¹⁾
Allentown | 5.59 | 12.89 | 4.77 | 10.25
State total | 227.08 | 349.85 | ⁽¹⁾ | ⁽¹⁾
¹ Not applicable.

[FR Doc. C3-18853 Filed 8-1-03; 8:45 am]

BILLING CODE 1505-01-D